DEPARTMENT OF AGRICULTURE

Food Safety and Inspection Service

[Docket No. FSIS-2014-0025]

Notice of Request for a Renewal Information Collection (Public Health Information System)

AGENCY: Food Safety and Inspection Service, USDA.

ACTION: Notice and request for comments.

SUMMARY: In accordance with the Paperwork Reduction Act of 1995 and the Office of Management and Budget (OMB) regulations, the Food Safety and Inspection Service (FSIS) is announcing its intention to renew an information collection concerning its Web-based Public Health Information System (PHIS). There are no changes to the existing information collection except a revision to remove the FSIS Form 9540-1 for the import of meat and poultry products. This will result in a reduction in burden of 5,034 hours. The information collection burden incurred by FSIS Form 9540-1 will be covered under the Electronic Import Inspection information collection (0583-0127).

DATES: Comments on this notice must be received on or before November 3, 2014.

ADDRESSES: FSIS invites interested persons to submit comments on this notice. Comments may be submitted by either of the following methods:

• Federal eRulemaking Portal: This Web site provides the ability to type short comments directly into the comment field on this Web page or attach a file for lengthier comments. Go to http://www.regulations.gov. Follow the on-line instructions at that site for submitting comments.

• Mail, including floppy disks or CD-ROMs, and hand- or courier-delivered items: Send to Docket Clerk, U.S. Department of Agriculture, Food Safety and Inspection Service, Patriots Plaza 3, 1400 Independence Avenue SW., Mailstop 3782, Room 8-163B, Washington, DC 20250-3700.

• Hand- or courier-delivered submittals: Deliver to Patriots Plaza 3, 355 E Street SW., Room 8-164, Washington, DC 20250-3700.

Instructions: All items submitted by mail or electronic mail must include the Agency name and docket number FSIS-2013-0024. Comments received in response to this docket will be made available for public inspection and posted without change, including any personal information, to http://www.regulations.gov.

Docket: For access to background documents or comments received, go to the FSIS Docket Room at Patriots Plaza 3, 355 E Street, Room 8-164, Washington, DC 20250-3700 between 8:00 a.m. and 4:30 p.m., Monday through Friday.

For Additional Information: Contact Gina Kouba, Paperwork Reduction Act Coordinator, Food Safety and Inspection Service, USDA, 1400 Independence Avenue SW., Room 6077 South Building, Washington, DC 20250, (202) 690-6510.

SUPPLEMENTARY INFORMATION: Title: Public Health Information System (PHIS).

Type of Request: Renewal information collection.

Abstract: FSIS has been delegated the authority to exercise the functions of the Secretary (7 CFR 2.18, 2.53) as specified in the Federal Meat Inspection Act (FMIA) (21 U.S.C. 601, et seq.), the Poultry Products Inspection Act (PPIA) (21 U.S.C. 451, et seq.), and the Egg Products Inspection Act (EPIA) (21 U.S.C. 1031, et seq.). FSIS protects the public by verifying that meat, poultry, and egg products are safe, wholesome, not adulterated, and correctly labeled and packaged.

FSIS has developed a Web-based system that improves FSIS inspection operations and facilitates industry members' applications for inspection, export, and import of meat, poultry, and egg products. With PHIS, industry members are able to submit forms through a series of screens. Paper forms are also available to firms that do not wish to use PHIS.

To submit information through PHIS, firms' employees register for a USDA eAuthentication account with Level-2 access. An eAuthentication account enables individuals inside and outside of USDA to obtain user-identification accounts to access a wide range of USDA applications through the Internet. The Level-2 access provides users the ability to conduct official electronic business transactions. To register for a Level-2 eAuthentication account, the user needs to have access to the Internet and a valid email address. To learn more about eAuthentication and how to register for an account, visit http://www.eauth.egov.usda.gov/.

Consistent with its current procedures, FSIS continues to collect information within PHIS from firms regarding the application for inspection and the export and import of meat, poultry, and egg products. Firms may complete new forms (screen sets) in PHIS when exporting meat, poultry, and egg products (9 CFR 322.2, 381.107, and 590.200). FSIS is requesting the continued use of the following forms and collection of information for them through screen sets within PHIS.

• FSIS Form 9080-4, Product List, is used to provide details about the products each FSIS-regulated firm exports. FSIS uses this form to verify whether those products are eligible for export to the specified country.

• A Transfer Certificate is submitted by exporters to FSIS when product is transferred from one establishment or plant to another facility before export.

• A “Split/Consolidations” Certificate is submitted by exporters to indicate that an export shipment approved by FSIS for export is being split and sent to two separate destinations or that two or more FSIS-approved export shipments to the same country are being combined.

• FSIS Form 9080-3, Establishment Application for Export, is completed by exporters to specify countries where they wish to export product (9 CFR 322.2 and 381.105). FSIS uses this information to track the export of product.

• FSIS Form 9060-6, The Application for Export Certificate, provides FSIS with data necessary to facilitate the export of product (9 CFR 322.2 and 381.105).

• FSIS Form 9010-1, Application for the Return of Exported Products to the United States, is used by the exporter of product that is exported and then returned to this country, to notify FSIS and to arrange for the product's entry (9 CFR 327.17, 381.209, and 590.965).

The following three forms are available in PHIS but not as a series of screens. FSIS is requesting the continued use of these forms.

• FSIS Form 5200-2, Application for Federal Inspection, is submitted by all official establishments in order to receive a grant of inspection (9 CFR 304.1 and 381.17).

• FSIS Form 5200-6, Application for Approval of Voluntary Inspection, is submitted by all establishments that want voluntary inspection, (9 CFR 350.5, 351.4, 352.3, and 362.3)(OMB Control number 0583-0082).

• FSIS Form 5200-15, Hours of Operation, is submitted when an establishment wants to notify the Agency of a change in its hours of operation (9 CFR 307.4, 381.37, 590.124, and 592.96).

Estimate of Burden: FSIS estimates that it will take respondents an average of 79.6 hours per year.

Respondents: Official establishments, official plants, importers, and exporters.

Estimated No. of Respondents: 770.

Estimated No. of Annual Responses per Respondent: 485.5.

Estimated Total Annual Burden on Respondents: 142,981 hours.

Copies of this information collection assessment can be obtained from Gina Kouba, Paperwork Reduction Act Coordinator, Food Safety and Inspection Service, USDA, 1400 Independence SW., Room 6077, South Building, Washington, DC 20250, (202) 690-6510.

Comments are invited on: (a) Whether the proposed collection of information is necessary for the proper performance of FSIS's functions, including whether the information will have practical utility; (b) the accuracy of FSIS's estimate of the burden of the proposed collection of information, including the validity of the methodology and assumptions used; (c) ways to enhance the quality, utility, and clarity of the information to be collected; and (d) ways to minimize the burden of the collection of information, including through the use of appropriate automated, electronic, mechanical, or other technological collection techniques, or other forms of information technology. Comments may be sent to both FSIS, at the addresses provided above, and the Desk Officer for Agriculture, Office of Information and Regulatory Affairs, Office of Management and Budget, Washington, DC 20253.

Responses to this notice will be summarized and included in the request for OMB approval. All comments will also become a matter of public record.

Additional Public Notification

FSIS will announce this notice online through the FSIS Web page located at http://www.fsis.usda.gov/wps/portal/fsis/topics/regulations/federal-register.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/wps/portal/fsis/programs-and-services/email-subscription-service.

Options range from recalls to export information to regulations, directives, and notices. Customers can add or delete subscriptions themselves, and have the option to password-protect their accounts.

USDA Nondiscrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail

U.S. Department of Agriculture, Director, Office of Adjudication, 1400 Independence Avenue SW., Washington, DC 20250-9410, Fax, (202) 690-7442.

Email

program.intake@usda.gov.

Persons with disabilities who require alternative means for communication (Braille, large print, audiotape, etc.), should contact USDA's TARGET Center at (202) 720-2600 (voice and TDD).

Done at Washington, DC, on August 27, 2014.
Alfred V. Almanza,
Administrator.

[FR Doc. 2014-20835 Filed 8-29-14; 8:45 am]

BILLING CODE 3410-DM-P